DEPARTMENT OF ENERGY

Federal Energy Regulatory Commission

Combined Notice of Filings #1

Take notice that the Commission received the following electric rate filings:

Docket Numbers: ER11-2090-001, ER11-2091-001, ER11-2092-001, ER11-2094-001, ER11-2095-001

Applicants: Duke Energy Vermillion II, LLC, Duke Energy Hanging Rock II, LLC, Duke Energy Lee II, LLC, Duke Energy Fayette II, LLC, Duke Energy Washington II, LLC

Description: Request for Waiver of Duke Energy Hanging Rock II, LLC, et al.

Filed Date: 02/23/2011

Accession Number: 20110223-5194

Comment Date: 5 p.m. Eastern Time on Monday, March 7, 2011

Docket Numbers: ER11-2427-001

Applicants: ISO New England Inc.

Description: ISO New England Inc. submits tariff filing per 35: Conforming Tariff Record for PER Section 13.7 to be effective 12/22/2010.

Filed Date: 02/25/2011

Accession Number: 20110225-5073

Comment Date: 5 p.m. Eastern Time on Friday, March 18, 2011

Docket Numbers: ER11-2952-000

Applicants: Central Maine Power Company

Description: Central Maine Power Company submits tariff filing per 35.1: Central Maine Power Co.—Filing of Rocky Gorge Corp. Interconnection Agreement to be effective 2/25/2011.

Filed Date: 02/25/2011

Accession Number: 20110225-5141

Comment Date: 5 p.m. Eastern Time on Friday, March 18, 2011

Docket Numbers: ER11-2953-000

Applicants: New York Independent System Operator, Inc.

Description: New York Independent System Operator, Inc. submits tariff filing per 35.13(a)(2)(iii: LGIA Among NYISO, NYSEG and Howard Wind to be effective 2/11/2011.

Filed Date: 02/25/2011

Accession Number: 20110225-5142

Comment Date: 5 p.m. Eastern Time on Friday, March 18, 2011

Docket Numbers: ER11-2954-000

Applicants: DTE Calvert City, LLC

Description: DTE Calvert City, LLC submits tariff filing per 35.12: Market-Based Rate Initial Tariff Baseline to be effective 2/28/2011.

Filed Date: 02/25/2011

Accession Number: 20110225-5144

Comment Date: 5 p.m. Eastern Time on Friday, March 18, 2011

Docket Numbers: ER11-2955-000

Applicants: Louisville Gas and Electric Company

Description: Louisville Gas and Electric Company submits tariff filing per 35.13(a)(1): 02_25_11 Attach O ITO_RC to be effective 4/26/2011.

Filed Date: 02/25/2011

Accession Number: 20110225-5145

Comment Date: 5 p.m. Eastern Time on Friday, March 18, 2011

Docket Numbers: ER11-2956-000

Applicants: Central Maine Power Company

Description: Central Maine Power Company submits tariff filing per 35.13(a)(2)(iii: Central Maine Power Company—Filing of Gallop Power Interconnection Agreement to be effective 2/25/2011.

Filed Date: 02/25/2011

Accession Number: 20110225-5150

Comment Date: 5 p.m. Eastern Time on Friday, March 18, 2011

Docket Numbers: ER11-2957-000

Applicants: Southwest Power Pool, Inc.

Description: Southwest Power Pool, Inc.'s Submission of Notice of Cancellation of Large Generator Interconnection Agreement.

Filed Date: 02/25/2011

Accession Number: 20110225-5175

Comment Date: 5 p.m. Eastern Time on Friday, March 18, 2011

Docket Numbers: ER11-2958-000

Applicants: FirstEnergy Solutions Corp.

Description: FirstEnergy Solutions Corp. Transfer of Revenue Requirement for Reactive Power Service in connection with the integration of American Transmission Systems, Inc.'s transmission facilities into PJM.

Filed Date: 02/25/2011

Accession Number: 20110225-5177

Comment Date: 5 p.m. Eastern Time on Friday, March 18, 2011

Docket Numbers: ER11-2959-000

Applicants: February Futures, LLC

Description: February Futures, LLC submits tariff filing per 35.15: February Futures FERC Electric Tariff Cancellation to be effective 3/1/2011.

Filed Date: 02/28/2011

Accession Number: 20110228-5103

Comment Date: 5 p.m. Eastern Time on Monday, March 21, 2011

Docket Numbers: ER11-2960-000

Applicants: Pacific Gas and Electric Company

Description: Pacific Gas and Electric Company submits tariff filing per 35.13(a)(2)(iii: Corrections to PG&E's Wholesale Distribution Tariff to be effective 4/28/2010.

Filed Date: 02/28/2011

Accession Number: 20110228-5122

Comment Date: 5 p.m. Eastern Time on Monday, March 21, 2011

Docket Numbers: ER11-2961-000

Applicants: Florida Power Corporation

Description: Florida Power Corporation submits tariff filing per 35.13(a)(2)(iii: Rate Schedule No. 216 of Florida Power Corporation to be effective 2/28/2011.

Filed Date: 02/28/2011

Accession Number: 20110228-5123

Comment Date: 5 p.m. Eastern Time on Monday, March 21, 2011

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Dated: February 28, 2011.
Nathaniel J. Davis, Sr.,
Deputy Secretary.

[FR Doc. 2011-5135 Filed 3-7-11; 8:45 am]

BILLING CODE 6717-01-P